DEPARTMENT OF HEALTH AND HUMAN SERVICES

Centers for Disease Control and Prevention

[Program Announcement 02060]

National Cancer Prevention and Control Program; Notice of Availability of Funds; Amendment 4

A notice announcing the availability of fiscal year (FY) 2002 funds for cooperative agreements for the National Cancer Prevention and Control Program (NCPCP) was published in the Federal Register April 23, 2002, Volume 67, Number 78, pages 19932-19950. The notice is amended as follows:

Page 19935, Column 1, Section G.2.d. Funding Preference, was amended in Amendment 2 to read “Funding preference may be given to applicants from the prior year's applications who were considered Approved but Unfunded (ABU). Those applicants will be named in the annual open season announcement.” Delete and replace with “There are no funding preferences applicable to this component.”

Page 19937, Column 3, Section G.4.a.(6)(b) delete “November 1, 2002” and replace with “August 1, of the funding year”

Page 19938, Column 1, Section G.4.b, after the sentence “For each proposal, the following information should be submitted:”, move the following sentence “An Executive Summary consisting of a brief summary of proposed project, including goals, objectives, and description of who will complete the work.”, which was added in Amendment 2 to read: G.4.b.(a) Executive Summary: “A brief summary of proposed project, including goals, objectives, and description of who will complete the work.” Renumber the current G.4.b.(a) through G.4.b.(e) to G.4.b.(b) through G.4.b.(f).

Page 19938, Column 2, under Section G.5.b. “Moving from a Planning Program to an Implementation Program within the five-year Project Period:”, delete G.5.b.(1) through G.5.b.(3) and replace with: G.5.b.(1) Demonstrates success in meeting Planning Program Performance Measures as outlined in G.5.a.(1), (2) and (3). G.5.b.(2) Responds to Implementation Program “Content”, section G.4. and “Implementation Activities”, Page 19935, Column 3, section G.3.a.(2) of this program announcement.

Page 19939, Column 3, Section H.2.b.(1) 60/40 Requirement:, delete the first two sentences, “Not less than 60 percent of cooperative agreement funds must be spent for screening, tracking, follow-up and the provision of appropriate individually provided support services. Cooperative agreement funds supporting public education and outreach, professional education, quality assurance and improvement, surveillance and program evaluation, partnerships, and management may not exceed 40 percent of the approved budget [Section 1503(a)(1) and (4) of the PHS Act, as amended].” and replace with “Not less than 60 percent of cooperative agreement funds must be spent for screening & diagnostic services, to include case management, tracking and follow-up and the provision of appropriate individually provided support services. Cooperative agreement funds supporting program management; data management; quality assurance/quality improvement; evaluation; partnerships; professional development and recruitment, to include public education, outreach and in reach may not exceed 40 percent of the approved budget [Section 1503(a)(1) and (4) of the PHS Act, as amended].”

Page 19941, Column 2, Section H.4.a.(4), replace “period September 30, 2002 through June 29, 2003” with “project year” and replace “Attachment C” with “Attachment B”.

Page 19941, Column 2, last paragraph and continuing to Column 3, starting with “Applicants should include an attachment to the workplan * * *, and ending after * * * “Screening Projections Matrix” in the appendices.”, delete.

Page 19941, Column 3, replace “Attachment E” with “Attachment C”.

Page 19942, Column 1, Section H.4.a.(5)(a)[6], which was added in Amendment 2, replace “National Cancer Conference” with “National Cancer Prevention and Control Conference”.

Page 19942, Column 1, in fourth full paragraph, replace “Attachment F” with “Attachment D”.

Page 19942, Column 1, Section H.4.a.(6)(a), replace “Attachment G” with “Attachment E”.

Page 19942, Column 2, Section H.4.a.(6)(c), which was added in Amendment 3, delete entire section.

Page 19943, Column 3, Section H.5.d., replace “Attachment H”, which was added in Amendment 3, with “Attachment F”.

Page 19944, Column 3, Section I.2.e.(3), replace “Attachment I” with “Attachment G”.

Dated: December 20, 2004.
William P. Nichols,
Director, Procurement and Grants Office, Centers for Disease Control and Prevention.

[FR Doc. 04-28248 Filed 12-27-04; 8:45 am]

BILLING CODE 4163-18-P